DEPARTMENT OF COMMERCE

National Oceanic and Atmospheric Administration

[I.D. 050901D]

New England Fishery Management Council; Public Meetings

AGENCY: National Marine Fisheries Service (NMFS), National Oceanic and Atmospheric Administration (NOAA), Commerce.

ACTION: Notice of public meetings.

SUMMARY: The New England Fishery Management Council (Council) is scheduling a public meeting of its Research Steering Committee and Herring Oversight Committee and Advisory Panel (joint with the Atlantic States Marine Fisheries Commission (ASMFC) Herring Section Panel) in May and June 2001 to consider actions affecting New England fisheries in the exclusive economic zone (EEZ). Recommendations from these groups will be brought to the full Council for formal consideration and action, if appropriate.

DATES: The meetings will be held on May 31, 2001, and June 6, 2001. See SUPPLEMENTARY INFORMATION for specific dates and times.

ADDRESSES: The meetings will be held in Wakefield and Peabody, MA. See SUPPLEMENTARY INFORMATION for specific locations.

Council address: New England Fishery Management Council, 50 Water Street, Mill 2, Newburyport, MA 01950; telephone: (978) 465-0492.

FOR FURTHER INFORMATION CONTACT: Paul J. Howard, Executive Director, New England Fishery Management Council; (978) 465-0492. Requests for special accommodations should be addressed to the Council (see ADDRESSES).

SUPPLEMENTARY INFORMATION:

Meeting Dates and Agendas

Thursday, May 31, 2001, 9:30 a.m.—Research Steering Committee Meeting.

Location: Sheraton Colonial, One Audubon Road, Wakefield, MA 01880; telephone: (781) 245-9300.

The agenda will include an update on the April 2001 workshop held to discuss industry-based surveys/study fleets and NMFS follow-up activities. The committee will discuss and evaluate recommendations in a report prepared by the New England Aquarium on cod-tagging. There will also be a discussion of the committee’s role in long-term research programs in New England. The committee will have a follow-up discussion about future research planning over the next 3 to 5 years.

Wednesday, June 6, 2001, 10 a.m.—Joint Herring Oversight Committee, Advisory Panel and ASMFC Meeting.

The committee and advisors will review the annual Stock Assessment and Fishery Evaluation (SAFE) Report for the 2000 fishing year, and recommendations from the Herring Plan Development Team for 2002 fishing year specifications for optimum yield from the fishery, total allowable level of foreign fishing, joint venture processing and total allowable catch for each management area. The committee and advisors will develop recommendations to the Council on specifications for the 2002 fishing year. The meeting will be held jointly with the ASMFC Herring Section who will be discussing proposals for herring spawning area closures tolerance provisions. Following that discussion, time permitting, the committee will finalize its list of questions to the advisors on controlled access/limited entry in the herring fishery.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Paul J. Howard (see ADDRESSES) at least 5 days prior to the meeting dates.

Dated: May 11, 2001.
Richard W. Surdi,
Acting Director, Office of Sustainable Fisheries, National Marine Fisheries Service.

[FR Doc. 01-12367 Filed 5- 15-01; 8:45 am]

BILLING CODE 3510-22-S